ENVIRONMENTAL PROTECTION AGENCY

[EPA-HQ-OPP-2018-0007; FRL-9980-26]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before August 20, 2018.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT Robert McNally, Biopesticides and Pollution Prevention Division (BPPD) (7511P), email address: BPPDFRNotices@epa.gov., Anita Pease, Antimicrobials Division (AD) (7510P), email address: ADFRNotices@epa.gov. Michael Goodis, Registration Division (RD) (7505P), email address: RDFRNotices@epa.gov. The mailing address and phone number for each contact person is: Office of Pesticide Programs, Environmental Protection Agency, 1200 Pennsylvania Ave. NW, Washington, DC 20460-0001; main telephone number: (703) 305-7090.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

New Active Ingredients

1. File Symbol: 524-ALG. Docket ID number: EPA-HQ-OPP-2018-0245. Applicant: Monsanto Company, 800 N. Lindbergh Blvd., St. Louis, MO 63167. Product name: LCO Liquid Additive. Active ingredient: Plant regulator—LCO MOR116 (chemical name: D-glucose, O-6-deoxy-2-O-methyl-α-L-galactopyranosyl-(1→6)-O-[O-2-deoxy-2-[[(11Z)-1-oxo-11-octadecen-1-yl]amino]-β-D-glucopyranosyl-(1→4)-O-2-(acetylamino)-2-deoxy-β-D-glucopyranosyl-(1→4)-O-2-(acetylamino)-2-deoxy-β-D-glucopyranosyl-(1→4)-2-(acetylamino)-2-deoxy-β-D-glucopyranosyl-(1→4)]-2-(acetylamino)-2-deoxy-; and D-glucose, O-2-deoxy-2-[[(11Z)-1-oxo-11-octadecen-1-yl]amino]-β-D-glucopyranosyl-(1→4)-O-2-(acetylamino)-2-deoxy-β-D-glucopyranosyl-(1→4)-O-2-(acetylamino)-2-deoxy-β-D-glucopyranosyl-(1→4)-O-2-(acetylamino)-2-deoxy-β-D-glucopyranosyl-(1→4)-O-[6-deoxy-α-L-galactopyranosyl-(1→6)]-2-(acetylamino)-2-deoxy-) at 0.0000266%. Proposed use: Seed treatment. Contact: BPPD.

2. File Symbol: 524-ALU. Docket ID number: EPA-HQ-OPP-2018-0245. Applicant: Monsanto Company, 800 N. Lindbergh Blvd., St. Louis, MO 63167. Product name: LCO MOR116 MP. Active ingredient: Plant regulator—LCO MOR116 (chemical name: D-glucose, O-6-deoxy-2-O-methyl-α-L-galactopyranosyl-(1→6)-O-[O-2-deoxy-2-[[(11Z)-1-oxo-11-octadecen-1-yl]amino]-β-D-glucopyranosyl-(1→4)-O-2-(acetylamino)-2-deoxy-β-D-glucopyranosyl-(1→4)-O-2-(acetylamino)-2-deoxy-β-D-glucopyranosyl-(1→4)-2-(acetylamino)-2-deoxy-β-D-glucopyranosyl-(1→4)]-2-(acetylamino)-2-deoxy-; and D-glucose, O-2-deoxy-2-[[(11Z)-1-oxo-11-octadecen-1-yl]amino]-β-D-glucopyranosyl-(1→4)-O-2-(acetylamino)-2-deoxy-β-D-glucopyranosyl-(1→4)-O-2-(acetylamino)-2-deoxy-β-D-glucopyranosyl-(1→4)-O-2-(acetylamino)-2-deoxy-β-D-glucopyranosyl-(1→4)-O-[6-deoxy-α-L-galactopyranosyl-(1→6)]-2-(acetylamino)-2-deoxy-) at 0.013%. Proposed use: Manufacturing-use product. Contact: BPPD.

3. File Symbol: 7969-UEE. Docket ID number: EPA-HQ-OPP-2018-0053. Applicant: BASF Corporation. Product name: Vedira™ Cockroach Gel Bait. Active ingredient: Insecticide-Broflanilide at 0.25%. Proposed Use: To kill Asian and German cockroaches in and around commercial, institutional, and warehousing establishments [including computer facilities, food/feed processing plants, hospitals, hotels, housing and containment areas (i.e. arenas, barns, cages, hatcheries, houses, hutches, kennels, parlors, pens, sheds, shelters, stables) for animals (i.e. avian, bovine, canine, equine, feline, hircine, leporine, murine, porcine), laboratories, milk houses, motels, nursing homes, pet shops, poultry facilities (including hatchery, egg packaging, and breeding facilities), restaurants, schools, sewers, supermarkets, warehouses, and zoos], residences, and transportation equipment (aircraft—cargo areas only, boats, buses, ships, and trains). Contact: RD.

4. File Symbol: 7969-UEG. Docket ID number: EPA-HQ-OPP-2018-0053. Applicant: BASF Corporation. Product name: Nurizma™ SC Insecticide. Active ingredient: Insecticide—Broflanilide at 30%. Proposed Use: For control of soil insects in corn grown for seed, field corn, popcorn, sweet corn; and tuberous and corm vegetables, Crop Subgroup 1C. Contact: RD.

5. File Symbol: 7969-UEN. Docket ID number: EPA-HQ-OPP-2018-0053. Applicant: BASF Corporation. Product name: Cimegra™ SC Insecticide. Active ingredient: Insecticide-Broflanilide at 10%. Proposed Use: For control of soil insects in corn grown for seed, field corn, popcorn, sweet corn; and tuberous and corm vegetables, Crop Subgroup 1C. Contact: RD.

6. File Symbol: (7969-EUP-UT). Applicant: BASF Corporation. Pesticide Chemical: Broflanilide. Summary of Request: The purpose of the requested EUP is to generate efficacy data on structural protection applications using conventional application equipment and the BASF Corporation-patented HP Unit to protect structures from termites. Contact: RD.

7. File Symbol: 7969-UER. Docket ID number: EPA-HQ-OPP-2018-0053. Applicant: BASF Corporation. Product name: Terinda™ Foam Termiticide/Insecticide. Active ingredient: Insecticide-Broflanilide at 0.0045%. Proposed Use: To kill termites (drywood and subterranean) and foraging carpenter ants in and around apartments, homes, food/feed handling establishments (non-food/feed areas), restaurants, hospitals and nursing homes (non-patient areas), hotels and motels, hobby greenhouses, interiorscapes, mobile homes, office buildings, schools, transportation equipment (buses, cargo trucks, trailers, and trains), warehouses and other commercial and industrial buildings in addition to outdoor spot treatments. Contact: RD.

8. File Symbol: 7969-UEU. Docket ID number: EPA-HQ-OPP-2018-0053. Applicant: BASF Corporation. Product name: Vedira™ Ant Gel Bait. Active ingredient: Insecticide-Broflanilide at 0.02%. Proposed Use: To kill ants (acrobat, Argentine, bigheaded, black carpenter, crazy, field, ghost, honey, little black, odorous house, pavement, rover, and thief) in and around commercial, industrial, and residential buildings including apartments, garages, food storage areas, homes, hospitals and nursing homes, hotels, motels, office buildings, restaurants and other food handling establishments, schools, supermarkets, transportation equipment (buses, boats, ships, trains, planes), utilities, and warehouses. Contact: RD.

9. File Symbol: 7969-URA. Docket ID number: EPA-HQ-OPP-2018-0053. Applicant: BASF Corporation. Product name: Vedira™ Granular Ant Bait. Active ingredient: Insecticide-Broflanilide at 0.005%. Proposed Use: To kill ants (acrobat, Argentine, bigheaded, crazy, Florida carpenter, foraging fire, ghost, little black, odorous house, pavement, rover, and thief) and crickets in and around commercial buildings and other structures, food handling facilities, food processing plants, food storage areas, golf courses, homes, hotels, meat packing plants, lawns, motels, restaurants and other food handling establishments, non-occupied patient areas of hospitals and nursing homes, parks, residential areas, schools, supermarkets, turf and warehouses. Contact: RD.

10. File Symbol: 7969-URG. Docket ID number: EPA-HQ-OPP-2018-0053. Applicant: BASF Corporation. Product name: Vedira™ Granular Fly Bait. Active ingredient: Insecticide-Broflanilide at 0.025%. Proposed Use: To kill flies (blue bottle, house, phorid, and small fruit or vinegar) in and around Commercial buildings, Industrial buildings, and Other manmade structures; Garbage or refuse bins and receptacles; or Other areas where flies may be a nuisance or health hazard Bakeries; Campgrounds; Carnivals; Circuses; Concert arenas; Confectionaries; County and state fair facilities; Dairy areas; Festival grounds, Food handling establishments; Food processing plants; Food storage areas; Food vending structures; Golf courses; Grain mills; Granaries; Hospitals; Hotels; Housing and containment areas (i.e., Arenas, Barns, Cages, Hatcheries, Houses, Hutches, Kennels, Parlors, Pens, Sheds, Shelters, Stables) for Animals (i.e., Avian, Bovine, Canine, Equine, Feline, Hircine, Leporine, Murine, Porcine); Interiorscapes; Libraries; Marinas; Meat, Poultry and egg processing facilities; Meat packing plants; Milk houses; Motels; Museums; Nursing homes; Pavilions; Research facilities; Resorts; Restaurants; Mobile food vendors; Parking ramps; Poultry facilities (including: Hatchery, Egg packaging, Breeding facilities); Public picnic areas; Public restrooms; Recreational rest areas; Schools; Supermarkets; Temporary shelters; Theme parks; Terminals; Transportation equipment (Barges, Ships, Trailers, Trains, Trucks); Utilities; Warehouses; Waysides; Wildlife refuge areas; Zoos. Contact: RD.

11. File Symbol: 7969-URI. Docket ID number: EPA-HQ-OPP-2018-0053. Applicant: BASF Corporation. Product name: Teraxxa™ Insecticide Seed Treatment. Active ingredient: Insecticide-Broflanilide at 34.93%. Proposed/Use: Seed treatment for insect control in wheat (all types), barley, oats, rye, triticale, amaranth grain, buckwheat (all types), cañihua, chia, cram-cram, huauzontle, quinoa, and spelt. Contact: RD.

12. File Symbol: 7969-URL. Docket ID number: EPA-HQ-OPP-2018-0053. Applicant: BASF Corporation. Product Name: Terinda™ SC Termiticide/Insecticide. Active ingredient: Insecticide-Broflanilide at 9.47%. Proposed Use: To kill subterranean termites outdoors around apartments, homes, restaurants, hospitals and nursing homes (non-patient areas), hotels and motels, mobile homes, office buildings, schools, transportation equipment (cargo trucks, trailers, and train cars ONLY), warehouses and other commercial and industrial buildings and in transportation equipment. Contact: RD.

13. File Symbol: 7969-URO. Docket ID number: EPA-HQ-OPP-2018-0053. Applicant: BASF Corporation. Product name: Teraxxa™ F4 Insecticide and Fungicide Seed Treatment. Active ingredient: Insecticide-Broflanilide at 1.55%, Fluxapyroxad at 0.78%, Pyraclostrobin at 1.55%, Triticonazole at 1.55%, and Metalaxyl at 0.93%. Proposed Use: Seed treatment for insect control in wheat (all types), barley, oats, rye, triticale, amaranth grain, buckwheat (all types), cañihua, chia, cram-cram, huauzontle, quinoa, and spelt. Contact: RD.

14. File Symbol: 7969-URT. Docket ID number: EPA-HQ-OPP-2018-0053. Applicant: BASF Corporation. Product name: PT Vedira™ Pressurized Insecticide. Active ingredient: Insecticide-Broflanilide at 0.20%. Proposed Use: To kill ants (excluding carpenter), bed bugs, crickets, Indian meal moths (adult and larvae), millipedes, silverfish, spiders (including black widow and brown recluse), and stored product pest beetles; and to control ants (foraging harvester and Pharaoh), beetles (Asian lady), cockroaches (German), flies (house and stable), kuzu bugs, and stink bugs (brown marmorated) in and around Apartments, Campgrounds, Food storage areas, Homes, Hospitals**, Hotels, Meat packing and food processing plants, Motels, Nursing homes **, Resorts, Restaurants and other food handling establishments, Schools, Supermarkets, Transportation equipment (Airplanes—cargo areas only, Buses, Boats, Ships, Trains, and Trucks), Utilities, Warehouses and other commercial and industrial buildings. Contact: RD.

15. File Symbol: 7969-URU. Docket ID number: EPA-HQ-OPP-2018-0053. Applicant: BASF Corporation. Product name: Vedira™ Pressurized Fly Bait. Active ingredient: Insecticide-Broflanilide at 0.125%. Proposed Use: To kill flies (blue bottle, filth, flesh, house, moth, phorid, and small fruit or vinegar flies) and house fly larvae in and around Commercial, residential, and industrial buildings and other manmade structures; Garbage or refuse bins and receptacles; or Other areas where flies may be a nuisance or health hazard: Apartments; Bakeries; Campgrounds; Carnivals; Circuses; Concert arenas; Condominiums; Confectionaries; County and state fair facilities; Dairy areas; Farm houses; Day care facilities; Festival grounds, Food handling establishments; Food processing plants; Food storage areas; Food vending structures; Garages; Golf courses; Grain mills; Granaries; Homes; Hospitals; Hotels; Housing and containment areas (i.e., Arenas, Barns, Cages, Hatcheries, Houses, Hutches, Kennels, Parlors, Pens, Sheds, Shelters, Stables) for animals (i.e., Avian, Bovine, Canine, Equine, Feline, Hircine, Leporine, Murine, Porcine); Interiorscapes; Libraries; Marinas; Meat, poultry and egg processing facilities; Meat packing plants; Milk houses; Mobile homes; Motor homes; Motels; Museums; Nursing homes; Outdoor living areas; Pavilions; Porches; Research facilities; Resorts; Restaurants; Mobile food vendors; Parking ramps; Poultry facilities (including: Hatchery, Egg packaging, Breeding facilities, Houses); Public picnic areas; Public restrooms; Recreational rest areas; Residential backyards; Schools; Supermarkets; Tents or temporary shelters; Theme parks; Terminals; Transportation equipment (Buses, Barges, Boats, Ships, Trailers, Trains, Trucks); Utilities; Warehouses; Waysides; Wildlife refuge areas; Zoos. Contact: RD.

16. File Symbol: 86203-EI. Docket ID number: EPA-HQ-OPP-2018-0053. Applicant: Mitsui Chemicals Agro, Inc. (MCAG). Product name: Broflanilide Technical. Active ingredient: Insecticide-Broflanilide at 99.68%. Proposed Use: For formulation into insecticides for 1) terrestrial food crops and crop groups: Brassica (Cole) Leafy Vegetables (Crop Group 5), Canola, Corn, Cotton, Fruiting Vegetables (Except Cucurbits) (Crop Group 8), Herbs and Spices (Crop Group 19), Leafy Vegetables (Except Brassica Vegetables) (Crop Group 4), Legume Vegetables (Succulent or Dried) (Crop Group 6), Soybean, Tea, and Tuberous and Corm Vegetables (Crop Subgroup 1C); and the following seed treatment uses: Cereal Grains (Crop Group 15), Tuberous and Corm Vegetables (Crop Subgroup 1), and Soybeans. 2) Non-crop uses: Food-handling establishments; indoor and outdoor residential and commercial as well as termiticide applications. Contact: RD

17. File Symbol: 80286-EI. Docket ID number: EPA-HQ-OPP-2018-0370. Applicant: ISCA Technologies, Inc., 1230 W. Spring St., Riverside, CA 92507. Product name: SPLAT FAW GL3. Active ingredients: Straight Chain Lepidopteran Pheromone—(Z)-7-Dodecenyl Acetate at 0.09%, (Z)-9-tetradecenyl acetate at 2.55%, and (Z)-11-hexadecenyl acetate at 0.36%. Proposed use: End-use product to be used as mating distruptant for lepidopteran species. Contact: BPPD.

18. File Symbol: 80286-E.O.. Docket ID number: EPA-HQ-OPP-2018-0370. Applicant: ISCA Technologies, Inc., 1230 W. Spring St., Riverside, CA 92507. Product name: SPLAT FAW GL4. Active ingredients: Straight Chain Lepidopteran Pheromone—(Z)-7-Dodecenyl Acetate at 0.12%, (Z)-9-tetradecenyl acetate at 3.40%, and (Z)-11-hexadecenyl acetate at 0.48%. Proposed use: End-use product to be used as mating distruptant for lepidopteran species. Contact: BPPD.

19. File Symbol: 80286-ET. Docket ID number: EPA-HQ-OPP-2018-0370. Applicant: ISCA Technologies, Inc., 1230 W. Spring St., Riverside, CA 92507. Product name: ISCA FAW MP. Active ingredients: Straight Chain Lepidopteran Pheromone—(Z)-7-Dodecenyl Acetate at 2.86%, (Z)-9-tetradecenyl acetate at 81.00%, and (Z)-11-hexadecenyl acetate at 11.44%. Proposed use: Manufacturing-use product for formulation into end-use products to be used as mating distruptants for lepidopteran species. Contact: BPPD.

20. File Symbol: 80286-GN. Docket ID number: EPA-HQ-OPP-2018-0370. Applicant: ISCA Technologies, Inc., 1230 W. Spring St., Riverside, CA 92507. Product name: SPLAT FAW GL5. Active ingredients: Straight Chain Lepidopteran Pheromone—(Z)-7-Dodecenyl Acetate at 0.15%, (Z)-9-tetradecenyl acetate at 4.25%, and (Z)-11-hexadecenyl acetate at 0.60%. Proposed use: End-use product to be used as mating distruptant for lepidopteran species. Contact: BPPD.

Authority: 7 U.S.C. 136 et seq.

Dated: June 27, 2018.
Delores Barber,
Director, Information Technology and Resources Management Division, Office of Pesticide Programs.

[FR Doc. 2018-15463 Filed 7-18-18; 8:45 am]

BILLING CODE 6560-50-P